DEPARTMENT OF THE INTERIOR

Bureau of Land Management

[WY-920-1320-E]

Powder River Regional Coal Team Activities, Notice of Public Meeting in Gillette, WY

AGENCY: Bureau of Land Management, Interior.

ACTION: Notice of public meeting.

SUMMARY: The Powder River Regional Coal Team (RCT) has scheduled a public meeting for April 27, 2005, to review current and proposed activities in the Powder River Coal Region and to review pending coal lease applications (LBA).

DATES: The RCT meeting will begin at 9 a.m. MDT on April 27, 2005. The meeting is open to the public.

ADDRESSES: The meeting will be held at the City Council Chambers, 201 East 5th Street, Gillette, Wyoming 82718.

FOR FURTHER INFORMATION CONTACT: Robert Janssen, Regional Coal Coordinator, Bureau of Land Management (BLM) Wyoming State Office, Division of Minerals and Lands, 5353 Yellowstone Road, Cheyenne, Wyoming 82009, telephone 307-775-6206 or Rebecca Spurgin, Regional Coal Coordinator, BLM Montana State Office, Division of Resources, 5001 Southgate Drive, Billings, Montana 59101, telephone 406-896-5080.

SUPPLEMENTARY INFORMATION: The primary purpose of the meeting is to discuss pending coal LBAs in the Powder River Basin. Specific coal lease applications and other matters for the RCT to consider include:

1. Maysdorf LBA. This LBA, filed by Cordero Mining Company under the name of Mt. Logan, was discussed at the meeting held in May 2002. The applicant significantly reduced the size of the LBA in November of 2004. The LBA now includes approximately 2,219 acres and 230 million tons of Federal coal. The RCT will be updated on the new tract and the processing schedule for the Maysdorf LBA.

2. West Extension-Eagle Butte LBA. This LBA, filed by Foundation Coal West, Inc., was discussed at the meeting held in May 2002. It is adjacent to the Eagle Butte Mine and includes approximately 1,397 acres and 231 million tons of Federal coal. This LBA was also reduced in size by the applicant. The RCT will be updated on the new tract and the processing schedule for the West Extension-Eagle Butte LBA.

3. Belle Ayr LBA. This new LBA, filed by Foundation Coal West, Inc., is adjacent to the Belle Ayr mine. Approximately 1,578.74 acres and 200.0 million tons of Federal coal are involved. The original Belle Ayr LBA was filed in July 2000 and a portion of the original application was subsequently offered for sale. The bid was rejected for not meeting fair market value. At the RCT meeting in 2002, the team instructed the applicant to submit a new application if they were still interested in leasing this tract. RAG submitted a new application in July 2004. The RCT needs to consider the processing schedule for the Belle Ayr LBA.

4. Decker Coal Company has indicated to the Montana BLM State Office that they will be submitting a coal lease application prior to the scheduled April 27, 2005, RCT meeting. The F-Section Extension would be mined in conjunction with their current operations at Decker Coal Mine, located in South-Central Montana. Specific details regarding the acreage and Federal coal tons being applied for will be presented at the upcoming RCT meeting.

5. Spring Creek Coal Company (SCCC) contacted the Montana BLM State Office in December 2004 to discuss a lease application that would add reserves to their leased Federal and State Carbone tracts. SCCC has indicated that they will submit an application for the Spring Creek Expansion Tract, which includes approximately 1,181.3 acres and 111.6 million Federal coal tons. These reserves would be mined in conjunction with their existing Spring Creek Coal Mine, located in South-Central Montana.

6. The BLM is doing a coal review study in the Powder River Basin. This study includes coal development forecasts and an evaluation of cumulative effects. The results of this review will be used in the preparation of coal related National Environmental Policy Act documents in the Powder River coal region. The RCT will be updated on the progress and results of this study.

7. The BLM received an application from Peabody Energy Company for a coal lease exchange for leased Federal coal in the Gold Mine Draw Alluvial Valley Floor area. The RCT will be updated on the parcels of land being considered for exchange, the public interest determination, and other actions pertaining to this exchange.

8. Update on BLM land use planning efforts in the Powder River Basin of Wyoming and Montana.

9. Other Coal Lease Applications and issues that may arise prior to the meeting. The RCT may generate recommendation(s) for any or all of these topics and other topics that may arise prior to the meeting date.

The meeting will serve as a forum for public discussion on Federal coal management issues of concern in the Powder River Basin region. Any party interested in providing comments or data related to the above pending applications may do so in writing to the State Director (910), BLM Wyoming State Office, P.O. Box 1828, Cheyenne, WY 82003, no later than April 15, 2005, or by addressing the RCT with concerns, in person, at the meeting on April 27, 2005.

Draft Agenda for Regional Coal Team (RCT) Meeting

1. Introduction of RCT members and guests.

2. Approval of the Minutes of the May 30, 2002, RCT meeting held in Casper, WY.

3. Coal activity since last RCT meeting.

4. Industry Presentations on Lease Applications:

—Cordero Mining Company, Maysdorf LBA

—Foundation Coal West, Inc., West Extension-Eagle Butte LBA

—Foundation Coal West, Inc., Belle Ayr LBA

—Decker Coal Company, F-Section Extension

—Spring Creek Coal Company, Spring Creek Expansion

5. BLM presentation on Powder River Basin coal review study.

6. Peabody/BLM joint presentation on Gold Mine Draw lease exchange.

7. BLM land use planning efforts.

8. Other pending coal actions and other discussion items that may arise.

9. RCT Recommendations.

—Review and recommendation(s) on pending Lease Application(s) and Exchanges(s).

10. Discussion of the next meeting.

11. Adjourn.

Alan L. Kesterke,
Associate State Director.

[FR Doc. 05-4420 Filed 3-7-05; 8:45 am]

BILLING CODE 4310-22-P